DEPARTMENT OF JUSTICE

Notice of Lodging of a Consent Decree Pursuant to the Comprehensive Environmental Response, Compensation, and Liability Act

Notice is hereby given that a proposed consent decree in United States versus MRC Holdings, Inc., et al., Civil No. 8:01-CV-2289-T-23MSS, was lodged on November 30, 2001, with the United States District Court for the Middle District of Florida, Tampa Division (“MRC Decree”). The propose Consent Decree would resolve certain claims under Sections 106 and 107 of the Comprehensive Environmental Response, Compensation, and Liability Act of 1980, 42 U.S.C. 9606 and 9607, as amended, to recover response costs incurred by the Environmental Protection Agency in connection with the release of hazardous substances at the at the MRI Superfund Site (“the Site”) in Tampa, Hillsborough County, Florida. The United States alleges that MRC Holdings, Inc., Proler International Corp., and MRI Corporation (“Settling Defendants”) are liable as persons who owned and/or operated the Site at the time of the release or threatened release of a hazardous substances. Under the proposed Consent Decree, Settling Defendants have agreed to: (a) Perform the remedy selected by the Environmental Protection Agency to clean up Operable Unit #1 (soil contamination) and the remedial investigation and feasibility study for Operation Unit #2 (groundwater contamination) at the Site; (b) EPA's past response costs in the amount of $700,000.00; and (c) pay future Site costs that EPA may incur. The proposed Decree resolves the liability of Defendants arising out of, and with respect to, the claims for relief asserted in the Complaint fill concomitant with this proposed Decree.

The Department of Justice will receive, for a period of thirty (30) days from the date of this publication, comments relating to the proposed Consent Decree. Comments should be addressed to the Assistant Attorney General for the Environment and Natural Resources Division, Department of Justice, P.O. Box 7611, Washington, D.C. 20530, and should refer to United States versus MRC Holdings, Inc., et al., M.D. FLA., Civil No. 8:01-CV-2289-T-23MSS, DOJ Ref. #90-11-2-07053.

The Consent Decree may be examined at the Region 4 Office of the Environmental Protection Agency, 61 Forsyth Street, Atlanta, GA 30303, and at the United States Attorney's Office for the Middle District of Florida, 400 North Tampa Street, Suite 3200, Tampa, Florida c/o Warren A. Zimmerman, Chief, Civil Division, United States Attorney's Office. A copy of the proposed Consent Decree (without attachments) may be obtained by mail from the Consent Decree Library, Post Office Box 7611, Washington, D.C. 20044. In requesting copies please refer to the reference case and enclose a check in the amount of $10.75 (25 cents per page reproduction costs) payable to the Consent Decree Library.

Ellen M. Mahan,
Assistant Section Chief, Environmental Enforcement Section, Environment and Natural Resources Division.

[FR Doc. 01-31785 Filed 12-26-01; 8:45 am]

BILLING CODE 4410-15-M